DEPARTMENT OF THE TREASURY

Submission for OMB Review; Comment Request

January 10, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before February 15, 2007.

OMB Number: 1559-0023.

Type of Review: Revision.

Form: CDFI 0011.

Title: NMTC Program Allocation Agreement—Disclosure, Audited Financial Statements.

Description: Entities receiving a New Markets Tax Credit Program Allocation must enter into an allocation agreement with the CDFI Fund. The allocation agreement contains certain disclosure and reporting requirements.

Respondents: State, Local and Tribal Governments, Business and other for profit and Not for profit institutions.

Estimated Total Burden Hours: 76 hours.

OMB Number: 1559-0011.

Type of Review: Extension.

Form: CDFI 0016.

Title: Conflict of Interest Package for CDFI Fund Non-Federal Readers.

Description: The CDFI Fund seeks to collect information from potential contractors hired to evaluate Fund program applications to identify, evaluate, and avoid potential conflicts of interest which the contractors may have with such applications.

Respondents: Individuals or Households.

Estimated Total Burden Hours: 112 hours.

OMB Number: 1559-0024.

Type of Review: Revision.

Form: CDFI 0010.

Title: New Markets Tax Credit (NMTC) Program Allocation Tracking System (ATS).

Description: The purpose of the NMTC Program ATS is to obtain information on investors making qualified investments in community development entities that receive a New Markets Tax Credit allocation.

Respondents: State, Local and Tribal Governments, Business and other for profit and Not for profit institutions.

Estimated Total Burden Hours: 2,040 hours.

Clearance Officer: Ashanti McCallum (202) 622-9018. Community Development Financial Institutions Fund, Department of the Treasury, 601 13th Street, NW., Suite 200 South, Washington, DC 20005.

OMB Reviewer: Alexander T. Hunt, (202) 395-7316, Office of Management and Budget, Room 10235, New Executive Office Building, Washington, DC 20503.

Michael A. Robinson,
Treasury PRA Clearance Officer.

[FR Doc. E7-458 Filed 1-12-07; 8:45 am]

BILLING CODE 4810-70-P